SECURITIES AND EXCHANGE COMMISSION

[Release No. 34-57481; File No. S7-966]

Program for Allocation of Regulatory Responsibilites Pursuant to Rule 17d-2; Notice of Filing and Order Approving and Declaring Effective an Amendment to the Plan for the Allocation of Regulatory Responsibilities Among the American Stock Exchange LLC, the Boston Stock Exchange, Inc., the Chicago Board Options Exchange, Incorporated, the International Securities Exchange, LLC, Finanacial Industry Regulatory Authority, Inc., The NASDAQ Stock Market LLC, the New York Stock Exchange, LLC, NYSE Arca, Inc., and the Philadelphia Stock Exchange, Inc.

Correction

In notice document E8-5321 beginning on page 14507, in the issue of Tuesday, March 18, 2008, make the following correction:

On page 14511, in the last column, in the last two lines, “April 7, 2008” should read “April 8, 2008”.

[FR Doc. Z8-5321 Filed 3-21-08; 8:45 am]

BILLING CODE 1505-01-D